DEPARTMENT OF TRANSPORTATION

National Highway Traffic Safety Administration

49 CFR Part 571

[Docket No. NHTSA-2024-0057]

RIN 2127-AK98

Federal Motor Vehicle Safety Standards; Pedestrian Head Protection, Global Technical Regulation No. 9; Incorporation by Reference

AGENCY: National Highway Traffic Safety Administration (NHTSA); Department of Transportation (DOT).

ACTION: Notice of proposed rulemaking; extension of comment period.

SUMMARY: NHTSA received a request to extend the comment period for the September 19, 2024, Notice of Proposed Rulemaking (NPRM) proposing a new Federal Motor Vehicle Safety Standard (FMVSS) to ensure passenger vehicles are designed to mitigate the risk of serious to fatal injury in pedestrian crashes. The NPRM is based on Global Technical Regulation (GTR) No. 9 on pedestrian safety, with focused enhancements to address safety problems. The comment period for the NPRM was scheduled to end on November 18, 2024. NHTSA is extending the comment period for the NPRM by 30 days.

DATES: The comment period for the NPRM published on September 19, 2024, at 89 FR 27502, is extended to December 18, 2024.

ADDRESSES: You may submit comments to the docket number identified in the heading of this document by any of the following methods:

• Federal eRulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, between 9 a.m. and 5 p.m. ET, Monday through Friday, except Federal holidays.

Instructions: All submissions must include the agency name and docket number. Note that all comments received will be posted without change to http://www.regulations.gov, including any personal information provided. Please see the Privacy Act discussion below. We will consider all comments received before the close of business on the comment closing date indicated above. To the extent possible, we will also consider comments filed after the closing date.

Docket: For access to the docket to read background documents or comments received, go to http://www.regulations.gov at any time or to 1200 New Jersey Avenue SE, West Building Ground Floor, Room W12-140, Washington, DC 20590, between 9 a.m. and 5 p.m., Monday through Friday, except Federal Holidays. Telephone: 202-366-9826.

Privacy Act: In accordance with 5 U.S.C. 553(c), DOT solicits comments from the public to better inform its decision-making process. DOT posts these comments, without edit, including any personal information the commenter provides, to www.regulations.gov, as described in the system of records notice (DOT/ALL-14 FDMS), which can be reviewed at www.transportation.gov/privacy. In order to facilitate comment tracking and response, we encourage commenters to provide their name, or the name of their organization; however, submission of names is completely optional. Whether or not commenters identify themselves, all timely comments will be fully considered.

Confidential Business Information: If you wish to submit any information under a claim of confidentiality, you must submit your request directly to NHTSA's Office of the Chief Counsel. Requests for confidentiality are governed by 49 CFR part 512. NHTSA is currently treating electronic submission as an acceptable method for submitting confidential business information to the agency under part 512. If you would like to submit a request for confidential treatment, you may email your submission to Dan Rabinovitz in the Office of the Chief Counsel at Daniel.Rabinovitz@dot.gov or you may contact him for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, Appendix A. In addition, you should submit a copy, from which you have deleted the claimed confidential business information, to the Docket at the address given above.

FOR FURTHER INFORMATION CONTACT: For non-legal issues: Vincent Wu, Office of Crashworthiness Standards (telephone: (202) 366-1740, fax (202) 493-2990).

For legal issues: Matthew Filpi, Office of the Chief Counsel (telephone: 202-366-3179). The mailing address for these officials is: National Highway Traffic Safety Administration, 1200 New Jersey Avenue SE, Washington, DC 20590.

SUPPLEMENTARY INFORMATION: On September 19, 2024, NHTSA published an NPRM proposing a new Federal Motor Vehicle Safety Standard (FMVSS) which would establish a head-to-hood impact test and performance requirements to minimize the risk of pedestrian head injury. The comment period for the NPRM was scheduled to end on November 18, 2024.

On October 17, 2024, NHTSA received a request for a 30-day extension of the comment period from the Alliance of Automotive Innovation (Auto Innovators). The requestor stated that additional time is necessary to conduct a detailed review of the NPRM and provide constructive feedback on the proposal. Auto Innovators also stated it would need to conduct a detailed review of the accompanying preliminary regulatory impact analysis (PRIA), which was published in the docket after the NPRM. Auto Innovators noted that the extension would be used to evaluate the practicability and complexity of the design changes (and corresponding lead time) needed to meet the proposed requirements, and more fully evaluate the regulatory impact and unanticipated costs.

Agency Decision

Pursuant to 49 CFR 553.19 and after thorough consideration of this request, NHTSA has determined that the requestor has provided sufficient justification for an extension, and that the extension is consistent with the public interest. NHTSA agrees that allowing additional time for the public and its stakeholders to provide robust and substantive comments on these complex issues will better inform NHTSA. The agency believes a 30-day extension will provide the public with sufficient time to review the docket and comment on the complex questions raised in the NPRM. Accordingly, NHTSA is granting the aforementioned request and extending the comment period by 30 days.

Authority: 49 U.S.C. 322, 30111, 30115, 30117, and 30166; delegation of authority at 49 CFR 1.95 and 501.8.

Raymond R. Posten,
Associate Administrator, Rulemaking.

[FR Doc. 2024-26985 Filed 11-15-24; 4:15 pm]

BILLING CODE 4910-59-P